DEPARTMENT OF AGRICULTURE

Forest Service

Missouri River Resource Advisory Committee Meeting

AGENCY: Forest Service, USDA.

ACTION: Notice of meeting.

SUMMARY: The Helena National Forest's Missouri River (formerly called the Lewis & Clark County Resource Advisory Committee) Resource Advisory Committee (RAC) will meet on Wednesday, November 18, 2009 (and Thursday, November 19, 2009, if additional time is needed) from 6 p.m. until 8 p.m., in Helena, Montana. The purpose of the meeting is to conduct welcomes and introductions, discuss the status of the RAC charter and committee membership vacancies, review and discuss project proposals, make project approval and funding decisions, set a next meeting date and receive public comment on the meeting subjects and proceedings.

DATES: Wednesday, November 18, 2009, from 6 p.m. until 8 p.m. (If additional time is needed, RAC will meet again on Thursday, November 19, 2009 from 6 p.m. to 8 p.m.)

ADDRESSES: The meeting will be held at the USDA-Helena Ranger District office located at 2001 Poplar, Helena, Montana 59601 (MT 59601).

FOR FURTHER INFORMATION CONTACT: Kathy Bushnell, Committee Coordinator, Helena National Forest, 2880 Skyway Drive, Helena, Montana 59602.

Phone: 406-495-3747; E-mail: kbushnell@fs.fed.us.

SUPPLEMENTARY INFORMATION: Agenda items to be covered include: (1) Welcome and introductions; (2) review and approve July meeting minutes; (3) briefly update committee on RAC charter and membership nomination process; (4) review, discuss and approve projects and funding; (5) set next meeting purpose, location and date; (6) and receive public comment. The meeting is open to the public. Public input opportunity will be provided and individuals will have the opportunity to address the Committee at that time.

Reminder: The Lewis & Clark County RAC recently expanded to include Broadwater County and renamed itself the Missouri River RAC to reflect the larger geographic area the committee now represents.

Dated: October 8, 2009.
Duane Harp,
Designated Federal Official.

[FR Doc. E9-25534 Filed 10-23-09; 8:45 am]

BILLING CODE M